UNIFIED CARRIER REGISTRATION PLAN

Sunshine Act Meeting Notice; Unified Carrier Registration Plan Board of Directors Meeting

TIME AND DATE: September 23, 2021, from 12:00 p.m. to 3:00 p.m., Eastern time.

PLACE: This meeting will be accessible via conference call and screensharing. Any interested person may call 877-853-5247 (US toll free), 888-788-0099 (US toll free), +1 929-205-6099 (US toll), or +1 669-900-6833 (US toll), Conference ID 912 6596 1953, to participate in the meeting. The website to participate via Zoom meeting and screenshare is https://kellen.zoom.us/j/91265961953.

STATUS: This meeting will be open to the public.

MATTERS TO BE CONSIDERED: The Unified Carrier Registration Plan Board of Directors (the “Board”) will continue its work in developing and implementing the Unified Carrier Registration Plan and Agreement. The subject matter of the meeting will include:

Agenda

I. Welcome and Call to Order—UCR Board Chair

The UCR Board Chair will welcome attendees, call the meeting to order, call roll for the Board, confirm the presence of a quorum, and facilitate self-introductions.

II. Verification of Meeting Notice—UCR Executive Director

The UCR Executive Director will verify publication of the meeting notice on the UCR website and distribution to the UCR contact list via email followed by subsequent publication of the notice in the Federal Register.

III. Review and Approval of Board Agenda—UCR Board Chair

For Discussion and Possible Action

The proposed Agenda will be reviewed, and the Board will consider adoption.

Ground Rules

➢ Board actions taken only in designated areas on agenda

IV. Approval of Minutes of the August 12, 2021 UCR Board Meeting—UCR Board Chair

For Discussion and Possible Action

Draft Minutes of the August 12, 2021 UCR Board meeting will be reviewed. The Board will consider action to approve.

V. Report of the Federal Motor Carrier Safety Administration (FMCSA)—FMCSA Representative

The FMCSA will provide a report on any relevant activity.

VI. Updates Concerning UCR Legislation—UCR Board Chair

The UCR Board Chair will call for any updates regarding UCR legislation since the last Board meeting.

VII. Subcommittee Reports

Audit Subcommittee—UCR Audit Subcommittee Chair

A. Co-enforcement of IRP and UCR—UCR Audit Subcommittee Chair and DSL Transportation Services, Inc.

The UCR Audit Subcommittee Chair will lead a discussion, supported by DSL Transportation Services, Inc. regarding how states can hold (not issue) IRP or commercial registrations/renewals until the motor carrier has registered for UCR.

B. Supporting State Police to Enhance Education and Compliance with UCR—UCR Audit Subcommittee Chair and DSL Transportation Services, Inc.

The UCR Audit Subcommittee Chair and DSL Transportation Services, Inc. will lead a discussion on the importance of working with state police to provide education on the UCR Plan and the importance of citing unregistered motor carriers.

C. Supporting Local FMCSA Offices to Enhance Education and Compliance with UCR—UCR Audit Subcommittee Chair and DSL Transportation Services, Inc.

The UCR Audit Subcommittee Chair and DSL Transportation Services, Inc. will lead a discussion on the importance of working with local FMCSA offices to provide education on the UCR Plan and the importance of citing unregistered motor carriers during inspections and new entrant audits.

Finance Subcommittee—UCR Finance Subcommittee Chair

A. Maturing of Certificate of Deposit (CD)—UCR Depository Manager For Discussion and Possible Board Action

The UCR Depository Manager will provide an update on the CD that will mature on October 23, 2021. The Board may take action to reinvest the proceeds.

Education and Training Subcommittee—UCR Education and Training Subcommittee Chair

A. Update on Audit Training Modules in Development—UCR Education and Training Subcommittee Chair and UCR Operations Director

The UCR Education and Training Subcommittee Chair and the UCR Operations Director will provide an update on the development of the Basic Audit Training Module and the Step-by-Step Approach to a UCR Audit, which is the second training model currently in development.

B. Update on Future Training Initiatives—UCR Education and Training Subcommittee Chair and UCR Operations Director

The UCR Education and Training Subcommittee Chair and the UCR Operations Director will provide an update on the planned future training initiatives for the UCR Plan.

VIII. Contractor Reports—UCR Executive Director

• UCR Executive Director's Report

The UCR Executive Director will provide a report covering recent activity for the UCR Plan.

• DSL Transportation Services, Inc.

DSL Transportation Services, Inc. will report on the latest data from the Focused Anomaly Reviews program, discuss motor carrier inspection results, and other matters.

• Seikosoft

Seikosoft will provide an update on recent/new activity related to the National Registration System.

• UCR Administrator Report (Kellen)—UCR Operations Director and UCR Depository Manager

The UCR staff will provide a management report covering recent activity for the Depository, Operations, and Communications.

IX. Other Business—UCR Board Chair

The UCR Board Chair will call for any other items Board members would like to discuss.

X. Adjournment—UCR Board Chair

The UCR Board Chair will adjourn the meeting.

This agenda will be available no later than 5:00 p.m. Eastern time, September 16, 2021 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2021-20388 Filed 9-16-21; 4:15 pm]

BILLING CODE 4910-YL-P